ENVIRONMENTAL PROTECTION AGENCY

[FRL-6998-8]

Recovery of Past Response Costs Settlement; Economy Plating Co., Inc. Site, Cleveland, Cuyahoga County, Ohio

AGENCY: Environmental Protection Agency (EPA).

ACTION: Notice; request for public comment.

SUMMARY: This notice is provided pursuant to section 122(i) of the Comprehensive Environmental Response, Compensation and Liability Act of 1980, as amended (CERCLA), 42 U.S.C. 9601 et seq. U.S. EPA proposes settlement of a claim under section 122(h)(1) of the Comprehensive Environmental Response, Compensation and Liability Act of 1980, as amended (CERCLA), 42 U.S.C. 6922(h)(1) with Economy Plating Co, Inc. and Dino Land Properties Co., Inc. for recovery of Past Response Costs incurred during removal activities at or in connection with the Economy Plating Co., Inc. Site in Cleveland, Cuyahoga County, Ohio.

The settlement requires the settling parties to pay $61,000.00 to the Hazardous Substances Superfund for reimbursement of Past Response Costs for removal actions taken at the Site. The proposed action is being taken to settle all liability related to the Economy Plating Site for this Respondent under section 107(a) of CERCLA.

For thirty (30) days following the date of publication of this notice, the Agency will receive written comments relating to the settlement. The Agency will consider all comments received an may modify or withdraw its consent to the settlement if comments received disclose facts or considerations which indicate that the settlement is inappropriate, improper, or inadequate.

DATES: Comments on this proposed settlement must be submitted to EPA by July 18, 2001.

ADDRESSES: Comments on this proposed settlement should be addressed to: Diana Embil, (C-14J), Assistant Regional Council, U.S. Environmental Protection Agency, 77 West Jackson Blvd., Chicago, Illinois 60604-3590. Comments should refer to: In the Matter of: Economy Plating Co., Inc. Site Recovery of Past Response Costs Settlement. Please submit an original and three copies of any comments, if possible. A copy of the proposed settlement may be obtained from the following address for review: U.S. Environmental Protection Agency, Region V, Office of Superfund, 77 West Jackson Blvd., Chicago, Illinois 60604-3590. Please telephone Diana Embil, at (312) 886-7889, before visiting the Region V office.

FOR FURTHER INFORMATION CONTACT: Diana Embil, (C-14J), Assistant Regional Counsel, U.S. Environmental Protection Agency, 77 West Jackson Boulevard, Chicago, Illinois 60604-3590, (312) 886-7889.

Dated: June 8, 2001.
William E. Muno,
Director, Superfund Division.

[FR Doc. 01-15291 Filed 6-15-01; 8:45 am]

BILLING CODE 6560-50-M